SMALL BUSINESS ADMINISTRATION

Military Reservist Economic Injury Disaster Loans Interest Rate for Fourth Quarter FY 2015

In accordance with the Code of Federal Regulations 13—Business Credit and Assistance § 123.512, the following interest rate is effective for Military Reservist Economic Injury Disaster Loans approved on or after July 20, 2015.

Military Reservist Loan Program—4.000%

Dated: July 16, 2015.
Lisa Lopez-Suarez,
Acting Associate Administrator for Disaster Assistance.

[FR Doc. 2015-18188 Filed 7-23-15; 8:45 am]

BILLING CODE 8025-01-P